DEPARTMENT OF VETERANS AFFAIRS

38 CFR Part 17

RIN 2900-AR01

VA Pilot Program on Graduate Medical Education and Residency

AGENCY: Department of Veterans Affairs.

ACTION: Correcting amendment.

SUMMARY: On November 13, 2023, the Department of Veterans Affairs (VA) published a final rule in the Federal Register to amend its medical regulations to establish a new pilot program on graduate medical education and residency, as required by section 403 of the John S. McCain III, Daniel K. Akaka, and Samuel R. Johnson VA Maintaining Internal Systems and Strengthening Integrated Outside Network Act of 2018. This correction adds the Office of Management and Budget (OMB) control number for the associated information collections.

DATES: This correction is effective January 9, 2024.

FOR FURTHER INFORMATION CONTACT: Andrea Bennett, Office of Academic Affiliations, Veterans Health Administration, Department of Veterans Affairs, at (202) 368-0324 or VAMission403Help@va.gov.

SUPPLEMENTARY INFORMATION: VA published a final rule on November 13, 2023, in the Federal Register (FR) at 88 FR 77514 to establish the Pilot Program on Graduate Medical Education and Residency in new 38 CFR 17.243 through 17.248. The final rule contained provisions constituting collections of information subject to the Paperwork Reduction Act of 1995 (44 U.S.C. 3507). On December 19, 2023, OMB approved these information collections and assigned OMB control number 2900-0936. This document adds language to 38 CFR 17.243 to reference the approved OMB information collection and OMB control number.

List of Subjects in 38 CFR Part 17

Administrative practice and procedure, Colleges and universities, Education, Government contracts, Health care, Health facilities, Health professions, Indians, Medical and dental schools, Reporting and recordkeeping requirements, Scholarships and fellowships, Schools, Veterans.

Consuela Benjamin,
Regulations Development Coordinator, Office of Regulation Policy & Management, Office of General Counsel, Department of Veterans Affairs.

Correcting Amendment

Accordingly, the Department of Veterans Affairs amends 38 CFR part 17 by making the following correcting amendment:

PART 17—MEDICAL

1. The authority citation for part 17 continues to read in part as follows:

Authority: 38 U.S.C. 501, and as noted in specific sections.

* * * * *

2. Amend § 17.243 by adding a parenthetical reference at the end of the section to read as follows:

§ 17.243 Purpose and scope.

* * * * *

(The Office of Management and Budget has approved the information collection provisions in this section under control number 2900-0936).

[FR Doc. 2024-00192 Filed 1-8-24; 8:45 am]

BILLING CODE 8320-01-P